DEPARTMENT OF TRANSPORTATION

Federal Aviation Administration

14 CFR Part 73

[Docket No. FAA-2016-9479; Airspace Docket No. 15-AAL-4]

RIN 2120-AA66

Establishment of Restricted Areas R-2205 A, B, C, D, E, F, G, H, J, K; Fairbanks, AK and Revocation of Restricted Area R-2205; Stuart Creek, AK

AGENCY: Federal Aviation Administration (FAA), DOT.

ACTION: Final rule.

SUMMARY: This action establishes restricted areas R-2205 A, B, C, D, E, F, G, H, J, K; Fairbanks, AK, and revokes restricted area R-2205; Stuart Creek, AK, over the Digital Multipurpose Training Range (DMPTR) and the Yukon Training Area (YTA), which provides a more realistic protective airspace required for hazardous activities within the Joint Pacific Alaska Range Complex (JPARC).

DATES: Effective date 0901 UTC, October 10, 2019.

FOR FURTHER INFORMATION CONTACT: Kenneth Ready, Airspace Policy and Regulations Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted area airspace at Fairbanks, AK to support the United States' Air Force and Army to provide larger airspace to more realistically conduct service and joint hazardous training activities, consistent with current and future combat environments.

History

The FAA published a notice of proposed rulemaking for Docket No. FAA-2016-9479 in the Federal Register (82 FR 12526; March 6, 2017), establishing restricted areas R-2205A, R-2205B, R-2205C, R-2205D, R-2205E, R-2205F, R-2205G, R-2205H, R-2205J, and R-2205K, Fairbanks, AK, in support of the United States Air Force and Army to provide more realistic airspace for hazardous activities within the JPARC complex. Interested parties were invited to participate in this rulemaking effort by submitting written comments on the proposal. Ten comments were received; seven from individuals, two aviation groups (Aircraft Owners and Pilots Association [AOPA] and Alaska Air Carriers Association), and one from Alyeska Pipeline Service Company (APSC).

Discussion of Comments

In their response to the NPRM, the commenters raised several substantive issues. Two commenters stated they did not agree with the proposal but did not state a reason for their objection or an aeronautical suggestion to consider, these comments were not addressed. Alaska Air Carriers Association commented on R-2201 Ft. Greely Alaska, their comments were addressed in that rulemaking action's supplemental NPRM. The comments are categorized in the following groupings: (1) Safety, (2) financial burden cost for fuel (3) airspace design being overly complex; (4) Trans-Alaska Pipeline and (5) Chena River VFR corridor.

Having considered the issues and recommendations provided by the commenters, the FAA offers the following responses.

Safety

Four individuals commented that the expansion would be unsafe due to the rapidly changing weather conditions and terrain in the area.

The FAA does not agree. The expansion from the current restricted area's western boundary is 10 miles to the west abutting the Class D airspace over Eielson Air Force Base and 3 miles to the north, with the airspace divided into low altitude and high altitude subdivisions. Based on public comment, the subdivisions and stratification were modified to enable the using agency (U.S. Army, AK, Joint Base Elemendorf-Richardson) to release volumes of airspace to the controlling agency (FAA Fairbanks Approach Control) for use by the public when hazardous activities are not scheduled. Aircraft have the availability to fly through the inactive restricted areas when the low subdivisions are released by the using agency. Additionally, information provided by the FAA aeronautical study and Eielson Air Force Base (AFB) air traffic control facility concluded very little civilian traffic traverses the east side of the Eielson Class D where the restricted area has been expanded; conversely, west of and through Eielson Air Force base remains available to IFR and VFR aircraft. Moreover, the expanded areas of the restricted areas are generally over the higher ground in the area, allowing civil traffic the safety of maneuvering in the lower ground around the restricted area expansion. At times, however, aircraft may be required to maneuver north or south earlier or later than desired to avoid an active restricted area.

Lastly, this proposal was analyzed by a safety risk management panel that included representatives from AOPA and Alaska Airmen Association. No hazards were identified with the expansion of this airspace.

Financial Burden Cost for Fuel

An individual commented that the expansion would be a major financial cost of aviation fuel for pilots transitioning from Fairbanks to the eastern portions of the state and to Canada.

The FAA does not agree. For pilots transitioning between Fairbanks and eastern Alaska or Canada, minor adjustments to flight plans may be required when the restricted area is active. In most cases, flight paths will not change significantly (if at all) because civilian aircraft already operate around the pre-existing restricted airspace and the portions of the Viper and Yukon military operation areas (active from 8:00 to 18:00, Monday through Friday), within which the restricted area expansion is established. Therefore, there will be no significant change in cost to IFR civil aircraft that are already routed around these airspace areas consistent with air traffic control procedures. Additionally, as stated earlier in this document, the aeronautical study indicated that very little civilian traffic traverses east of Eielson. Therefore, VFR aircraft are minimally impacted, and they have the option to fly through and west of Eielson AFB.

In an effort to minimize impact to non-participating aircraft, the restricted area incorporates subdivisions and stratification. Based on public comment, the subdivisions and stratification were modified to enable the using agency to release airspace to the controlling agency for public use when hazardous activities are not scheduled.

Airspace Design Being Overly Complex

AOPA commented the new proposed restricted areas proposed would create a complex matrix of airspace segments. AOPA is concerned that the complexity of this matrix is confusing and will lead to pilots inadvertently penetrating the airspace.

The FAA agrees with this comment and has realigned the airspace into smaller rectangle subdivisions instead of large 45-degree slanted subdivisions with irregular boundaries. This redesign of the airspace proposed in the NPRM was discussed extensively at the FAA's safety risk management panel where numerous aviation groups, which included AOPA, identified no hazards to these redesigned subdivisions. The redesign added two more restricted area subdivisions simplifying the design, while reducing the overall size of the R-2205 A through K complex in response to other comments discussed later in this document.

Trans-Alaska Pipeline

AOPA and APSC commented on the availability of the Trans-Alaskan Pipeline to be available for inspection and aerial security patrols for Alaska's transportation infrastructure. The proposal would include the route over the pipeline.

The FAA agrees and has adjusted the southwest boundary of the restricted area complex (R-2205 D) to ensure the pipeline is not in the restricted areas and aerial access is available. Chena River VFR corridor AOPA commented on an existing VFR corridor along the Chena River valley. The valley is one of the most popular routes between Fairbanks and the communities of Central Circle Hot Springs, Chena Hot Springs and Circle City. Limiting access to this corridor would cause inadvertent airspace penetrations and will cause pilots to fly one side of the river raising the possibility of a mid-air collision, rather than allowing opposite direction traffic to utilize both sides of the Chena river valley to deconflict.

The FAA agrees with AOPA and has adjusted the northwest boundary of the restricted area complex (R-2205 B) to allow the VFR corridor free access and two miles of maneuverability from the restricted area on either side of the Chena river valley.

Military Operations Areas (MOA)

In the NPRM, the FAA acknowledged that the proposed R-2205A, B, C, D, E, F, G, H, J, and K restricted areas, if established, would be designated within the existing Viper A, Viper B, and Yukon 1 Military Operations Areas (MOAs). To address potential airspace issues and confusion created if all special use airspace (SUA) areas were active at the same time, the FAA stated it would amend the legal descriptions of the Viper A, Viper B and Yukon 1 MOAs to exclude that airspace within R-2205A, B, C, D, E, F, G, H, J, and K when the restricted areas were activated.

MOAs are established to separate or segregate non-hazardous military flight activities from aircraft operating in accordance with instrument flight rules (IFR) and to advise pilots flying under visual flight rules (VFR) where these activities are conducted. IFR aircraft may be routed through an active MOA only by agreement with the using agency and only when air traffic control can provide approved separation from the MOA activity. VFR pilots are not restricted from flying in an active MOA but are advised to exercise caution while doing so. MOAs are nonregulatory airspace areas that are established or amended administratively and published in the National Flight Data Digest (NFDD) rather than through rulemaking procedures. When a nonrulemaking action is ancillary to a rulemaking action, FAA procedures allow for the nonrulemaking changes to be included in the rulemaking action. Since amendments to the Viper A, Viper B, and Yukon 1 MOAs descriptions are ancillary to the establishment of R-2205A through K, the MOA changes are addressed in this rule as well as being published in the NFDD.

The FAA circularized a proposal to make editorial amendments to the Viper A, Viper B, and Yukon 1 MOAs boundary descriptions, contingent upon restricted areas R-2205A through K being established, to add language that excluded that airspace within R-2205A through K when the restricted areas were activated. Interested parties were invited to participate in this proposed nonrulemaking action by submitting written comments on the proposal. No comments to the circular were received. As a result, the Viper A, Viper B, and Yukon 1 MOAs boundary descriptions are being amended to include language that excludes that airspace within restricted areas R-2205A through K when they are activated. These editorial amendments overcome any potential airspace confusion or conflict resulting from the overlapping restricted areas and MOAs being activated at the same time. Additionally, the amendments help inform nonparticipants when portions of the MOAs are not available due to hazardous activities being conducted in the overlapping restricted areas. The amended boundary descriptions for the MOAs will be published in the NFDD; the rest of the MOAs legal descriptions remain unchanged.

Differences From the NPRM

In response to comments the FAA has realigned all internal subdivisions into smaller rectangle subdivisions instead of large 45-degree slanted subdivisions with irregular boundaries. Additionally, two subdivisions have been added while the overall size of the R-2205 A through K complex is reduced. All geographic lat./long. coordinates have been adjusted to accommodate traffic above and around the newly established restricted areas ensuring ample separation from non-participating traffic.

The Rule

This action amends Title 14 Code of Federal Regulations (14CFR) part 73 by removing the current restricted area R-2205, Stuart Creek, AK, and establishing restricted areas R-2205A through K, Fairbanks, AK. The FAA is revoking and establishing this action at the request of the United States Army in Alaska. Subsequent to the NPRM, the FAA is also incorporating the restricted area updates noted in the Differences from the NPRM section. The FAA is taking this action to accommodate manned and unmanned teaming of aviation assets and allow Air-to-Ground Integration (AGI) during large training exercises such as Red Flag and Distant Frontier. Additionally, the expansion of the restricted area over the DMPTR allows for greater training complexity by incorporating AGI. The activities within R-2205 A through K are to meet the overall training objectives of the Department of Defense. The activities would include live and inert precision and unguided munitions, unmanned aerial vehicles (UAV) laser operations, joint combined arms live fire exercises, gunnery collective skills training, demolitions, indirect fire and helicopter integration with UAVs. These restricted areas are required to effectively deconflict Department of Defense and civilian air traffic from hazards associated with live fire training.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing restricted areas R-2205 A, B, C, D, E, F, G, H, J, K; Fairbanks, AK and revoking restricted area R-2205 at Stuart Creek, AK, qualifies for FAA adoption in accordance with FAA Order 1050.1F, paragraph 8-2, Adoption of Other Agencies' National Environmental Policy Act Documents, and FAA Order 7400.2M, paragraph 32-2-3 (Special Use Airspace). After conducting an independent review and evaluation of the Army's Final Environmental Impact Statement (EIS) for The Modernization and Enhancement of Ranges, Airspace, and Training Areas in the Joint Pacific Alaska Range Complex in Alaska (JPARC) and Finding Of No Significant Impact, (which analyzes the impacts of establishing R-2201 at the Battle Area Complex, expanding R-2205, and modifying the legal descriptions of Viper A, Viper B, Yukon 1 Military Operations Areas (MOAs)), the FAA has determined that the Army's EIS, Written Re-Evaluation, and supporting documentation adequately assesses and discloses the environmental impacts of the proposed action. The Army's JPARC Final EIS was published in June 2013 and the Army/USAF Record of Decision (ROD) was issued on August 6, 2013.

Based on the evaluation in the Army's EIS, the FAA, as a Cooperating Agency, concluded that the EIS qualifies for adoption by FAA, and that the FAA's adoption is authorized in accordance with 40 CFR 1506.3, Adoption, and FAA Order 1050.1F, paragraph 8-2, Adoption of Other Agencies' NEPA Documents. Accordingly, FAA adopts the Army's EIS and takes full responsibility for the scope and content that addresses the FAA's actions associated with the establishment and modification of Special Use Airspace.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.22 Alaska (Amended)

2. § 73.22 is amended as follows:

* * * * *

R-2205 Stuart Creek, AK [Delete]

R-2205A Fairbanks, AK [New]

Boundaries—Beginning at lat. 64°43′40″ N, long. 146°59′27″ W; clockwise along the 4.7-mile radius of Eielson AFB; to lat. 64°37′50″ N, long. 146°56′19″ W; to lat. 64°39′41″ N, long. 146°56′23″ W; to lat. 64°39′41″ N, long. 146°57′24″ W; to lat. 64°40′07″ N, long. 146°57′24″ W; to lat. 64°40′07″ N, long. 147°00′26″ W; to lat. 64°41′25″ N, long. 147°00′26″ W; to lat. 64°41′25″ N, long. 147°02′23″ W; to lat. 64°43′35″ N, long. 147°02′23″ W; to lat. 64°43′35″ N, long. 146°59′26″ W; to the point of beginning.

Designated altitudes. Surface to but not including 10,000 feet MSL.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205B Fairbanks, AK [New]

Boundaries—Beginning at lat. 64°48′47″ N, long. 146°41′03″ W; to lat. 64°37′40″ N, long. 146°41′10″ W; to lat. 64°37′50″ N, long. 146°56′19″ W; counter-clockwise along the 4.7-mile radius of Eielson AFB; to lat. 64°43′40″ N, long. 146°59′27″ W; to lat. 64°47′54″ N, long. 146°59′25″ W; to lat. 64°48′47″ N, long. 146°57′08″ W; to the point of beginning.

Designated altitudes. Surface to but not including 10,000 feet MSL.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205C Fairbanks, AK [New]

Boundaries—Beginning at lat. 64°46′36″ N, long. 146°10′42″ W; to lat. 64°37′33″ N, long. 146°10′39″ W; to lat. 64°37′40″ N, long. 146°41′10″ W; to lat. 64°48′47″ N, long. 146°41′03″ W; to lat. 64°48′47″ N, long. 146°32′18″ W; to lat. 64°46′36″ N, long. 146°32′18″ W; to the point of beginning.

Designated altitudes. Surface to but not including 10,000 feet MSL.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205D Fairbanks, AK [New]

Boundaries—Beginning at lat. 64°37′40″ N, long. 146°41′10″ W; to lat. 64°33′38″ N, long. 146°41′13″ W; to lat. 64°33′38″ N, long. 146°45′18″ W; to lat. 64°33′51″ N, long. 146°45′18″ W; to lat. 64°35′09″ N, long. 146°51′22″ W; to lat. 64°36′54″ N, long. 146°54′14″ W; to lat. 64°37′50″ N, long. 146°56′19″ W; to the point of beginning.

Designated altitudes. Surface to but not including 10,000 feet MSL.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205E Fairbanks, AK [New]

Boundaries—Beginning at lat. 64°37′33″ N, long. 146°10′39″ W; to lat. 64°35′48″ N, long. 146°10′40″ W; to lat. 64°35′48″ N, long. 146°11′38″ W; to lat. 64°33′51″ N, long. 146°19′41″ W; to lat. 64°33′38″ N, long. 146°19′41″ W; to lat. 64°33′38″ N, long. 146°41′13″ W; to lat. 64°37′40″ N, long. 146°41′10″ W; to the point of beginning.

Designated altitudes. Surface to but not including 10,000 feet MSL.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205F Fairbanks, AK [New]

Boundaries—Beginning at lat 64°43′40″ N, long. 146°59′27″ W; clockwise along the 47-mile radius of Eielson AFB; to lat. 64°37′50″ N, long. 146°56′19″ W; to lat. 64°39′41″ N, long. 146°56′23″ W; to lat. 64°39′41″ N, long. 146°57′24″ W; to lat. 64°40′07″ N, long. 146°57′24″ W; to lat. 64°40′07″ N, long. 147°00′26″ W; to lat. 64°41′25″ N, long. 147°00′26″ W; to lat. 64°41′25″ N, long. 147°02′23″ W; to lat. 64°43′35″ N, long. 147°02′23″ W; to lat. 64°43′35″ N, long. 146°59′26″ W; to the point of beginning.

Designated altitudes. 10,000 feet MSL to FL 310.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205G Fairbanks, AK [New]

Boundaries—Beginning at lat. 64°48′47″ N, long. 146°41′03″ W; to lat. 64°37′40″ N, long. 146°41′10″ W; to lat. 64°37′50″ N, long. 146°56′19″ W; counter-clockwise along the 47-mile radius of Eielson AFB; to lat. 64°43′40″ N, long. 146°59′27″ W; to lat. 64°47′54″ N, long. 146°59′25″ W; to lat. 64°48′47″ N, long. 146°57′08″ W; to the point of beginning.

Designated altitudes. 10,000 feet MSL to FL 310.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205H Fairbanks, AK [New]

Boundaries—Beginning at lat. 64°46′36″ N, long 146°10′42″ W; to lat. 64°37′33″ N, long. 146°10′39″ W; to lat. 64°37′40″ N, long. 146°41′10″ W; to lat. 64°48′47″ N, long. 146°41′03″ W; to lat. 64°48′47″ N, long. 146°32′18″ W; to lat. 64°46′36″ N, long. 146°32′18″ W; to the point of beginning.

Designated altitudes. 10,000 feet MSL to FL 310.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205J Fairbanks, AK [New]

Boundaries—Beginning at lat. 64°37′40″ N, long. 146°41′10″ W; to lat. 64°33′38″ N, long. 146°41′13″ W; to lat. 64°33′38″ N, long. 146°45′18″ W; to lat. 64°33′51″ N, long. 146°45′18″ W; to lat. 64°35′09″ N, long. 146°51′22″ W; to lat. 64°36′54″ N, long. 146°54′14″ W; to lat. 64°37′50″ N, long. 146°56′19″ W; to the point of beginning.

Designated altitudes. 10,000 feet MSL to FL 310.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

R-2205K Fairbanks, AK [New]

Boundaries—Beginning at lat. 64°37′33″ N, long. 146°10′39″ W; to lat. 64°35′48″ N, long. 146°10′40″ W; to lat. 64°35′48″ N, long. 146°11′38″ W; to lat. 64°33′51″ N, long. 146°19′41″ W; to lat. 64°33′38″ N, long. 146°19′41″ W; to lat. 64°33′38″ N, long. 146°41′13″ W; to lat. 64°37′40″ N, long. 146°41′10″ W; to the point of beginning.

Designated altitudes. 10,000 feet MSL to FL 310.

Time of designation. 0700-1900 local time Monday-Friday; other times by NOTAM two and one-half hours in advance.

Controlling agency. FAA, Fairbanks Approach Control.

Using agency. U.S. Army, AK (USARAK), Commanding General, Joint Base Elemendorf-Richardson (JBER), AK.

* * * * *

Issued in Washington, DC, on August 7, 2019.
Rodger A. Dean Jr.,
Manager, Airspace Policy Group.

[FR Doc. 2019-17216 Filed 8-12-19; 8:45 am]

BILLING CODE 4910-13-P